DEPARTMENT OF TRANSPORTATION

Federal Aviation Administration

14 CFR Part 39

[Docket No. FAA-2013-0029; Directorate Identifier 2013-NE-01-AD; Amendment 39-17599; AD 2013-19-17]

RIN 2120-AA64

Airworthiness Directives; Rolls-Royce plc Turbofan Engines

AGENCY: Federal Aviation Administration (FAA), DOT.

ACTION: Final rule; correction.

SUMMARY: The FAA is correcting an airworthiness directive (AD) that published in the Federal Register. That AD applies to all Rolls-Royce plc (RR) RB211-535E4-B-37 series turbofan engines. The AD number is incorrect in the Regulatory text. This document corrects that error. In all other respects, the original document remains the same.

DATES: This final rule is effective November 7, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Robert Green, Aerospace Engineer, Engine Certification Office, FAA, Engine & Propeller Directorate, 12 New England Executive Park, Burlington, MA 01803; phone: 781-238-7754; fax: 781-238-7199; email: robert.green@faa.gov.

SUPPLEMENTARY INFORMATION: Airworthiness Directive 2013-19-17, Amendment 39-17599 (78 FR 61171, October 3, 2013), currently requires removal of affected parts using a drawdown plan for all RR RB211-535E4-B-37 series turbofan engines.

As published, the AD number 2013-19-17 under § 39.13 [Amended], is incorrect.

No other part of the preamble or regulatory information has been changed; therefore, only the changed portion of the final rule is being published in the Federal Register.

The effective date of this AD remains November 7, 2013.

Correction of Regulatory Text

§ 39.13 [Corrected]

In the Federal Register of October 3, 2013, on page 61173, in the first column, lines 4 and 5, under § 39.13 [Amended] of AD 2013-19-17, are corrected to read as follows:

* * * * *

2013-19-17 Rolls-Royce plc: Amendment 39-17599; Docket No. FAA-2013-0029;

* * * * *

Issued in Burlington, Massachusetts, on October 25, 2013.
Colleen M. D'Alessandro,
Assistant Directorate Manager, Engine & Propeller Directorate, Aircraft Certification Service.

[FR Doc. 2013-27190 Filed 11-13-13; 8:45 am]

BILLING CODE 4910-13-P